FEDERAL MEDIATION AND CONCILIATION SERVICE

Privacy Act of 1974; System of Records

AGENCY: Federal Mediation and Conciliation Service.

ACTION: Notice of a modified system of records.

SUMMARY: To fulfill its conflict resolution and training mission, Federal Mediation and Conciliation Service (FMCS) uses Microsoft SharePoint, Microsoft Outlook, and a case records management system new to FMCS to enable mediators and managers to manage cases, manage reporting requirements, provide data for research and training, store recorded trainings and meetings, and collect information on Agency operations. The Agency's internal drives, SharePoint, Outlook, Cloud-based services such as Zoom.gov and Microsoft Teams, and a case records management system are used to store electronic case tracking information, electronic case files (including mediation agreements), and recorded meetings and trainings, permitting the accurate and timely collection, retrieval, and retention of information maintained by offices of the Agency. Inter-Agency Agreements (IAA), agreements for reimbursable services, and requests for mediation and training are also stored in these locations. IAAs and agreements for reimbursable services allow FMCS to provide requested services, such as training and labor dispute resolution, to other federal agencies. The notice amendment includes administrative updates to refine details published under summary, supplementary information, record source categories, routine uses, and the history section. These sections are amended to refine previously published information about the system of records. The dates, addresses, for further information contact, system name, security classification, system location, system manager, authority for maintenance of the system, purpose of the system, categories of individuals covered by the system, categories of records in the system, policies and practices for storage of records, policies and practices for retrieval of records, policies and procedures for retention and disposal of records, administrative safeguards, record access procedures, contesting records procedures, notification procedures, and exemptions promulgated remain unchanged. This amended SORN deletes and supersedes the SORN published in the Federal Register on March 16, 2022.

DATES: This system of records will be effective without further notice on May 26, 2023 unless otherwise revised pursuant to comments received. Comments must be received on or before May 26, 2023.

ADDRESSES: You may send comments, identified by FMCS-0004 by any of the following methods:

• Mail: Office of General Counsel, 250 E Street SW, Washington, DC 20427.

• Email: register@fmcs.gov. Include FMCS-0004 on the subject line of the message.

• Fax: (202) 606-5444.

FOR FURTHER INFORMATION CONTACT: Anna Davis, General Counsel, at adavis@fmcs.gov or 202-606-3737.

SUPPLEMENTARY INFORMATION: The notice amendment includes administrative updates to refine details published under summary, supplementary information, record source categories, routine uses, and the history section. These sections are amended to refine previously published information about the system of records. The dates, addresses, for further information contact, system name, security classification, system location, system manager, authority for maintenance of the system, purpose of the system, categories of individuals covered by the system, categories of records in the system, policies and practices for storage of records, policies and practices for retrieval of records, policies and procedures for retention and disposal of records, administrative safeguards, record access procedures, contesting records procedures, notification procedures, and exemptions promulgated remain unchanged.

This system is needed for processing, storing, and maintaining FMCS case records, notices, and agreements.

SYSTEM NAME AND NUMBER:

FMCS-0004 Case Records.

SECURITY CLASSIFICATION:

Unclassified.

SYSTEM LOCATION:

Federal Mediation and Conciliation Service, 250 E Street SW, Washington, DC 20427. For records stored on Zoom, this system is located at 55 Almaden Blvd., Suite 600, San Jose, CA 95113.

SYSTEM MANAGER(S):

Doug Jones, Director of Information Technology, email djones@fmcs.gov, or send mail to Federal Mediation and Conciliation Service, 250 E Street Southwest, Washington, DC 20427, Attn: Doug Jones.

AUTHORITY FOR MAINTENANCE OF THE SYSTEM:

Federal Mediation and Conciliation Service, 29 U.S.C. 172, et seq.; The National Labor Relations Act, 29 U.S.C. 151, et seq.; Administrative Dispute Resolution Act, 5 U.S.C. 571-584; Negotiated Rulemaking Act of 1990, 5 U.S.C. 561-570; the Federal Labor Relations Act, 5 U.S.C. 7119.

PURPOSE(S) OF THE SYSTEM:

The records in this system are used to process, track, review, and evaluate requests for mediation, training, and other alternate dispute resolution services. Records from this system may be used for training, presentation, and research purposes. The records from this system will also be used in the preparation of internal agency reports, the agency's budget requests, and reports to Congress.

CATEGORIES OF INDIVIDUALS COVERED BY THE SYSTEM:

FMCS clients who request or receive FMCS services concerning conflict management services or training. These FMCS clients include representatives from employers, unions, and educational institutions.

CATEGORIES OF RECORDS IN THE SYSTEM:

(1) Requests for mediation or training completed by parties to include the Agency Form F-7, available on www.fmcs.gov. Information collected on the form includes contact information for parties requesting services.

(2) Case processing documents and documents sent to or from parties to a mediation: Agency confirmation letters sent to parties assigning mediators to cases or trainings, mediation agreements, ethics documents concerning mediator involvement and authorizations to participate, and reports and invoices regarding mediations and training.

RECORD SOURCE CATEGORIES:

FMCS clients who are parties to labor agreements/disputes, mediations, or those requesting FMCS services submit notices and requests to FMCS. FMCS personnel create reports, status updates, and other internal processing records based on case progress and management. The National Labor Relations Board and the Federal Labor Relations Authority provide documents to FMCS regarding initial contracts.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FMCS as a routine use pursuant to 5 U.S.C. 552a(b)(3) as follows:

(a) To disclose pertinent information to the appropriate Federal, State, or local agency responsible for investigating, prosecuting, enforcing, or implementing a statute, rule regulation or order where the record, either alone or in conjunction with other information creates an indication of a violation or potential violation of civil or criminal laws or regulations.

(b) To disclose information to contractors, grantees, experts, consultants, detailees, and other non-Government employees performing or working on a contract, service, or other assignment for the agency when necessary to accompany an agency function related to this system of records.

(c) To officials of labor organizations and employers receiving services pursuant to 29 U.S.C. 172, et seq.

(d) To officials of labor organizations and federal agencies recognized under 5 U.S.C. Chapter 71 upon receipt of a formal request and in accordance with the conditions of 5 U.S.C. 7114 when relevant and necessary to their duties of exclusive representation concerning personnel policies, practices, and matters affecting working conditions.

(e) To disclose information to a Member of Congress or a congressional office in response to an inquiry made on behalf of, and at the request of, an individual who is the subject of the record.

(f) In an appropriate proceeding before a court, grand jury, or administrative or adjudicative body or official, when FMCS or other Agency representing FMCS determines the records are relevant and necessary to the proceeding; or in an appropriate proceeding before an administrative or adjudicative body when the adjudicator determines the records to be relevant to the proceeding.

(g) To the Department of Justice, including Offices of the U.S. Attorneys, or another Federal agency representing FMCS in pending or potential litigation or proceedings before any court, adjudicative, or administrative body. Such disclosure is permitted only when it is relevant and necessary to the litigation or proceeding, and one of the following is a party to the litigation or has an interest in such litigation:

(1) FMCS, or any component thereof;

(2) Any employee or former employee of FMCS in their official capacity;

(3) Any employee or former employee of FMCS in their capacity where the Department of Justice or FMCS has agreed to represent the employee;

(4) The United States, a Federal agency, or another party in litigation before a court, adjudicative, or administrative body, upon the FMCS General Counsel's approval, pursuant to 5 CFR part 295 or otherwise.

(h) To any agency, organization, or person for the purposes of performing audit or oversight operations related to the operation of this system of records or for federal ethics compliance purposes as authorized by law, but only information necessary and relevant to such audit or oversight function.

(i) To disclose data or information to other federal agencies, educational institutions, or FMCS clients who collaborate with FMCS to provide research or statistical information, services, or training concerning conflict management.

(j) To appropriate agencies, entities, and persons when (1) FMCS suspects or has confirmed that there has been a breach of the system of records, (2) FMCS has determined that as a result of the suspected or confirmed breach there is a risk of harm to individuals, FMCS (including its information systems, programs, and operations), the Federal Government, or national security; and (3) the disclosure made to such agencies, entities, and persons is reasonably necessary to assist in connection with FMCS's efforts to respond to the suspected or confirmed breach or to prevent, minimize, or remedy such harm.

(k) To another Federal agency or Federal entity, when FMCS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Case records may be received in hardcopy form from FMCS clients. Hardcopy forms are then scanned and stored electronically on FMCS servers. Meetings and trainings that are recorded via Zoom.gov are stored in the Cloud on ZoomGov servers requiring a username and password. Meetings recorded in Microsoft Teams are stored on the FMCS employee's OneDrive which requires a username and password. Third-party recording of meetings or trainings on FMCS platforms is not permitted.

POLICIES AND PRACTICES FOR RETRIEVAL OF RECORDS:

To retrieve records, FMCS personnel may search by the name of the representative or party, the assigned case number, the date, location, type of service provided, or FMCS personnel.

POLICIES AND PRACTICES FOR RETENTION AND DISPOSAL OF RECORDS:

All case records are retained and disposed of in accordance with General Records Schedule 1.1 and 4.2, issued by the National Archives and Records Administration (NARA).

ADMINSTRATIVE, TECHNICAL, AND PHYSICAL SAFEGUARDS:

Case records and agreements are accessible to restricted FMCS personnel or contractors who require access. Access to these electronic records occurs through a web browser to the internet or on the agency's internal drives both requiring a username and password for login. FMCS buildings are guarded and monitored by security personnel, cameras, ID checks, and other physical security measures. The case records management system will store records electronically using a commercial software application run on the Customer Relationship Management (CRM) platform, Microsoft Dynamics, which require a username and password. SharePoint is used to store the IAAs, which requires a username and password. Temporary paper files, notices received through mail, are destroyed once they are scanned into the agency's internal drives which also require a username and password.

RECORD ACCESS PROCEDURES:

Individuals must provide the following information for their records to be located and identified: (1) Full name, (2) Address, and (3) A reasonably identifying description of the record content requested. Requests can be submitted via fmcs.gov/foia/, via email to privacy@fmcs.gov, or via mail to the Privacy Office at FMCS 250 E Street SW, Washington, DC 20427. See 29 CFR 1410.3.

CONTESTING RECORD PROCEDURES:

Requests for correction or amendment of records, on how to contest the content of any records. Privacy Act requests to amend or correct records may be submitted to the Privacy Office at privacy@fmcs.gov or via mail to the Privacy Office at FMCS 250 E Street SW, Washington, DC 20427. Also, see https://www.fmcs.gov/privacy-policy/. See 29 CFR 1410.6.

NOTIFICATION PROCEDURES:

See 29 CFR 1410.3(a), Individual access requests.

EXEMPTIONS PROMULGATED FOR THE SYSTEM:

None.

HISTORY:

This amended SORN deletes and supersedes the SORN published in the Federal Register on March 16, 2022, at 87 FR 14855.

Dated: April 20, 2023.
Anna Davis,
General Counsel, Federal Mediation and Conciliation Service.

[FR Doc. 2023-08736 Filed 4-25-23; 8:45 am]

BILLING CODE 6732-01-P